INTERNATIONAL TRADE COMMISSION

[Investigation No. 337-TA-1217]

Enforcement Proceeding; Certain Blowers and Components Thereof; Notice of Institution of Formal Enforcement Proceeding

AGENCY: U.S. International Trade Commission.

ACTION: Notice.

SUMMARY: Notice is hereby given that the U.S. International Trade Commission has instituted a formal enforcement proceeding relating to the Consent Order issued on November 12, 2020, in the above-referenced investigation.

FOR FURTHER INFORMATION CONTACT: Cathy Chen, Office of the General Counsel, U.S. International Trade Commission, 500 E Street SW, Washington, DC 20436, telephone 202-205-2392. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted the original investigation on September 8, 2020, based on a complaint filed by Regal Beloit America, Inc (“Regal”) of Beloit, Wisconsin. 85 FR 55491-92 (Sep. 8, 2020). The complaint alleged violations of section 337 of the Tariff Act of 1930, as amended, 19 U.S.C. 1337, in the importation into the United States, the sale for importation, or the sale within the United States after importation of certain blowers and components thereof by reason of infringement of one or more of claims 1, 2, 7-10, and 15 of U.S. Patent No. 8,079,834 (“the '834 patent”). Id. at 55492. The Commission's notice of investigation named as respondents East West Manufacturing, LLC of Atlanta, Georgia, and East West Industries of Binh Duong, Vietnam (collectively, “Respondents”). Id. at 55492. The Office of Unfair Import Investigations (“OUII”) did not participate as a party in the original investigation. Id.

On October 14, 2020, Respondents filed a motion to terminate the investigation with respect to themselves based upon a consent order stipulation. The motion included a consent order stipulation and a proposed consent order.

On October 22, 2020, the presiding administrative law judge (“ALJ”) issued an initial determination (“ID”) granting the motion and terminating the investigation with respect to Respondents based on the entry of a consent order. Order No. 6 at 3 (Oct. 22, 2020). Thereafter, the Commission determined not to review the ID and issued a Consent Order. 85 FR 73511 (Nov. 18, 2020). Respondents were therefore terminated from the original investigation and the investigation was terminated in its entirety. Id.

On January 15, 2021, Regal filed a complaint requesting that the Commission institute a formal enforcement proceeding under Commission Rule 210.75 to investigate the alleged violation of the Consent Order by Respondents.

Having examined the enforcement complaint and the supporting documents, the Commission has determined to institute a formal enforcement proceeding, pursuant to 19 CFR 210.75(a), to determine whether a violation of the Consent Order, issued on November 12, 2020, in the original investigation has occurred and to determine what, if any, enforcement measures are appropriate. The named respondents are East West Manufacturing, LLC of Atlanta, Georgia, and East West Industries of Binh Duong, Vietnam. OUII is also named as a party.

The Commission vote for this determination took place on February 16, 2021.

The authority for the Commission's determination is contained in section 337 of the Tariff Act of 1930, as amended, 19 U.S.C. 1337, and in Part 210 of the Commission's Rules of Practice and Procedure, 19 CFR part p10.

By order of the Commission.
Issued: February 16, 2021.
Lisa Barton,
Secretary to the Commission.

[FR Doc. 2021-03409 Filed 2-18-21; 8:45 am]

BILLING CODE 7020-02-P